SMALL BUSINESS ADMINISTRATION

SBA Guaranteed Business Loans to Cooperatives

AGENCY: U.S. Small Business Administration.

ACTION: Notice of change of meeting.

SUMMARY: The Small Business Administration (SBA) published a notice in the Federal Register on February 28, 2019, announcing that the Office of Financial Assistance would be holding two public forums with members of the general public on SBA-guaranteed business loans to cooperatives. The purpose of the public forums is to provide an opportunity for members of the public to present their views to SBA on practical alternatives to satisfying SBA's personal guarantee requirement for small businesses with cooperative ownership. Today's notice announces the cancellation of the public forum that was going to be held in Kansas City, Missouri, on March 19, 2019. A teleconference, to allow more attendees to participate, will be conducted in its place.

DATES: The public forum will take place via teleconference on March 29, 2019, from 2:00 p.m. to 3:30 p.m. Eastern Daylight Saving Time. Please note the registration instructions under the Supplementary Information section of this notice.

FOR FURTHER INFORMATION CONTACT: Thomas Heou, SBA Office of Financial Assistance, thomas.heou@sba.gov or (202) 205-9168.

SUPPLEMENTARY INFORMATION: Pursuant to Sec. 862 of the John S. McCain National Defense Authorization Act for Fiscal Year 2019 (Pub. L. 115-232), SBA is holding two public forums to discuss practical alternatives to satisfy SBA's personal guarantee requirement on SBA-guaranteed loans to cooperatives. The first public forum was held in Washington, DC on March 12, 2019. The second public forum will be held via teleconference on March 29, 2019, at the time specified above.

This is an opportunity for members of the public to present their views to SBA on practical alternatives that would satisfy SBA's personal guarantee requirements. No policy recommendations or views will be offered by SBA at the forum. Individual speakers will be allowed to make oral comments limited to 3-5 minutes each, depending on the number of participants interested in speaking.

All interested parties must register in advance to participate in the teleconference. Attendance is limited to the first 200 individuals who register to attend.

Participants interested in attending may register for the conference at http://ems8.intellor.com/do=register&t=1&p=813511. After completing the registration, the participant will receive an email containing a personalized access link to participate in the teleconference.

Dianna L. Seaborn,
Director, Office of Financial Assistance.

[FR Doc. 2019-04940 Filed 3-15-19; 8:45 am]

BILLING CODE 8025-01-P